DEPARTMENT OF HEALTH AND HUMAN SERVICES

Centers for Disease Control and Prevention

[Program Announcement 01101]

Health Promotion and Disease Prevention Research Centers Cooperative Agreement; Notice of Availability of Funds

A. Purpose

The Centers for Disease Control and Prevention (CDC) announces the availability of fiscal year (FY) 2001 funds for a cooperative agreement program to fund up to two Health Promotion and Disease Prevention Research Centers (PRCs). This program addresses the “Healthy People 2010” focus area of Educational and Community-Based Programs.

The purpose of the PRC program is to support health promotion and disease prevention research that (1) focuses on the major causes of death and disability; (2) improves public health practice within communities; and (3) cultivates more effective state and local public health programs.

B. Eligible Applicants

Applications may be submitted by schools of public health, schools of medicine or osteopathy with an accredited Preventive Medicine Residency that have:

1. A multidisciplinary faculty with expertise in public health and which has working relationships with relevant groups in such fields as medicine, psychology, nursing, social work, education and business;

2. Graduate training programs relevant to disease prevention;

3. A core faculty in epidemiology, biostatistics, social sciences, behavioral and environmental sciences, and health administration; and

4. A demonstrated curriculum in disease prevention.

Note: Title 2 of the United States Code, Chapter 26, Section 1611 states that an organization described in section of the 501(c)(4) of the Internal Revenue Code of 1986 that engages in lobbying activities is not eligible to receive Federal funds constituting an award, grant, cooperative agreement, contract, loan, or any other form.

C. Availability of Funds

Approximately $1,434,000 is available in FY 2001 to fund up to two PRCs at approximately $717,000 per center. It is expected that the awards will begin on or about September 30, 2001, and will be made for a 12-month budget period within a project period of up to two years. Funding estimates may change. Continuation awards within an approved project period will be made on the basis of satisfactory progress as evidenced by required reports and the availability of funds.

Direct Assistance

You may request Federal personnel, in lieu of a portion of financial assistance (see Application Content).

D. Program Requirements

In conducting activities to achieve the purpose of this program, the recipients will be responsible for the activities under 1. (Recipient Activities), and CDC will be responsible for the activities under 2. (CDC Activities).

1. Recipient Activities

a. Select a research theme that will serve as a focus for Prevention Research activities.

b. Develop the administrative structure and recruit staff to implement a Prevention Research Center plan.

c. Conduct and evaluate a research or demonstration project in health promotion and disease prevention or preventive health services research, within a defined community or special population. The project must reflect the needs of the community within the applicant's jurisdiction and show evidence of having used an appropriate, collaborative planning process with community partners in determining project selection and implementation.

d. Specify how the research project will advance the translation of research into improved public health practice.

e. Establish an advisory committee to provide input on the major program activities. Membership may include but is not limited to a variety of local health-care providers, health and education agency officials, community leaders and organizers, and representatives of local businesses, religious organizations, voluntary organizations, and consumers.

f. Establish collaborative activities with appropriate organizations, individuals, and State and local health departments.

g. Establish the capacity to implement and evaluate multidisciplinary, professional training programs in prevention research or to conduct applied community-based training in research methods to foster community involvement and build community capacity for participatory research. If appropriate, this training may include a distance-learning-based format.

h. Establish a plan to ensure translation of research results and program findings to appropriate constituencies (beyond publication in peer-reviewed journals).

i. Designate a core staff member with expertise in research dissemination and information management to assist in the following types of activities: (1) the development of bibliographies and other archives pertaining to research publications and other documents; (2) training and other research and translation activities etc.

2. CDC Activities

a. Assist the recipient in all stages of the program by providing programmatic and technical assistance.

b. Assist in improving program performance through consultation based on information and activities of other projects.

c. At the request of the applicant, assign Federal personnel in lieu of a portion of the financial assistance to assist with developing the curriculum, training, or conducting other specific necessary activities.

d. Assist in the development of a research protocol for Institutional Review Board (IRB) review by all cooperating institutions participating in the research project. The CDC IRB will review and approve the protocol initially and on at least an annual basis until the research project is completed.

E. Content

Letter of Intent (LOI)

An LOI is required for this program. The narrative should be no more than 2 double-spaced pages, printed on one side, with one inch margins, and 12″ font. Your letter of intent will be used to plan the external peer reivew panel, and should briefly describe the proposed theme for the prospective Prevention Research Center (maximum of one paragraph), the applicant's experience and expertise on the proposed theme (maximum of one paragraph), and a brief description of the propose community partners (maximum of one paragraph). The LOI must also include the name, address, telephone number, facsimile (fax) number, and E-mail address for a contact person from the applicant institution. Attachments, booklets, or other documents will not be accepted with the LOI.

Applications

Use the information in the Program Requirements, Other Requirements, and Evaluation Criteria sections to develop the application content. Your application will be evaluated on the criteria listed, so it is important to follow them in laying out your program plan. The narrative should be no more than 90 double-spaced paged, printed on one side, with one inch margins, and 12″ font, excluding appendixes and PHS Form 398. Appendices must not exceed 25 pages and must be hard copy documents (i.e., no audiovisual materials, posters, etc.). Instructions contained here regarding font and page length supersede those in the PHS Form 398.

1. Research Theme

Identify a research theme and describe activities designed to focus on the theme that will result in innovative approaches to prevention research. Clearly identify the needs of the partner communities and describe the PRC's experience working with communities in selecting or revising/focusing the research theme. The applicant may wish to refer to products from the Task Force Community Preventive Services when considering their research theme. (For detailed information, visit the Guide to Community Preventive Services on the Web at http://www.communityguide.org).

Examples of research themes from current Research Prevention Centers include:

a. Bridging the Gap Between Public Health Science and Practice in Undeserved Populations.

b. Promoting the Health of Multiethnic Communities of the Southwest.

c. Putting Health Promotion into Action: Community Collaboration.

d. Reduction of Excess Morbidity and Mortality in the Harlem Community.

e. Promoting Health Through Physical Activity.

f. Community-based Marketing.

2. Prevention Research Center Plan

Identify and submit a plan for a prevention research center with specified goals, objectives, activities, and timeliness to include:

a. A description of goals and objectives of the PRC for the budget period that are consistent with the research theme.

b. A description of the use of other federal funds that will impact on stated program objectives.

c. A description of any financial and in-kind contributions from non-federal sources.

d. Describe a plan for building the identity of the PRC within the university and local community.

e. Documentation describing the composition, membership, rationale for membership, and objectives for a Community Advisory Committee. Documentation of how the Advisory Committee will collaborate in the selection and implementation of priority activities for the centers as well as facilitate collaboration with community organizations, state and local health or education departments. Documentation of dissemination activities to these constituencies.

f. Either a description of plans for conducting community-based applied training or a description of capacity to provide prevention research training for professionals.

g. Documentation of commitment to minority and undeserved populations, or other defined populations or communities (Be sure to give an operational definition of community).

h. A description of significant factors that may favorably or adversely impact on program performance and how these will be addressed during implementation of the center.

3. Management and Staffing Plan

Provide a management plan that includes a description of all organizational units and functions in the PRC. The plan should reflect the ability of the PRC to carry out the chosen research theme. Describe how the applicant will integrate the PRC within the parent institution. The following areas should be considered in developing a management and staffing plan:

a. Describe the PRC's personnel infrastructure.

1. Describe proposed leadership roles including how they complement one another.

2. Describe how staff filling each role will be actively engaged in the PRC.

b. Describe how proposed staffing will support center activity. Current resumes must be included.

c. Describe how the proposed staff meet the goal of establishing a multidisciplinary prevention research center.

d. No less than two full-time positions (FTE's) must be allocated for the following functions:

(Percentages of an FTE may be used for several positions.)

(1) Center Leadership: Responsible for overall center functions and the final authority for decision making about program and project activities/issues.

(2) Scientific oversight: Accountable for center research and development, design, methodology, project evaluation, and publications.

(3) Community Development: Community liaison, advisory committee, community training activities, and community dissemination.

(4) Program and Project Management: Oversight of center supported research and Institutional Review Board (IRB) protocols, coordination of center studies, mentorship of junior investigators, dissemination activities, and professional training in prevention research.

(5) Center Administration: Responsible for communication with CDC's Prevention Research Centers Program staff and Procurement and Grants Office. Responsibilities will include submission of fiscal reports, fiscal tracking and reports, personnel, and center procurement.

4. Research Project

Provide a description of a research or demonstration project that is consistent with the PRC Program objectives and selected PRC theme. The narrative for specific project should contain:

a. A description of the project including goals, objectives, time-line, research questions and target population.

b. A description of the methods including methods for participant recruitment, data collection, evaluation design, and data analysis.

c. A description of the extent of community and other research collaborations in the proposed project.

d. A description of project staff (number and types of positions).

e. A project budget.

f. A description of the plans to translate research findings onto public health practice or policy.

g. A description of how the project addresses the requirements of title 45 CFR Part 46 for the protection of human subjects.

5. Evaluation Plan

Describe a plan to evaluate PRC program and activities with regard to program progress and process; fulfillment of outcome objectives; impact, and community involvement; the PRC's community-based objectives; and any other indicators, such as cost benefit analyses. Describe a plan to evaluate the scientific methods utilized or described in center research projects, publications, and protocols. Specify staff responsible for the plans and their background and experience in center level evaluation.

6. Budget Information

Provide a line-item budget and narrative justification for all requested costs that are consistent with the goals, objectives, and proposed research activities, to include:

a. Line-item breakdown and justification for all personnel, i.e., name, position title, annual salary, percentage of time and effort, and amount requested.

b. Line-item breakdown and justification for all contracts and consultants, to include:

(1) Name of contractor or consultant

(2) Period of performance

(3) Method of selection (e.g., competitive or sole source)

(4) Scope of work

(5) Method of accountability

(6) Itemized budget

c. To request new direct assistance assignees, include:

(1) number of assignees requested;

(2) description of the position and proposed duties for each assignee;

(3) ability or inability to hire locally with financial assistance;

(4) justification for request;

(5) organizational chart and the name of intended supervisor;

(6) opportunities for training, education, and work experiences for assignees; and

(7) description of assignee's access to computer equipment for communication with (e.g., personal computer at home, personal computer at workstation, shared computer at workstation on site, shared computer at a central office).

F. Submission and Deadline

Letter of Intent (LOI)

On or before May 24, 2001, submit an original and 2 copies of the LOI to the Grants Management Specialist identified in the “Where to Obtain Additional Information” section of this announcement.

Application

Submit the original and five copies of the application PHS Form 398 (OMB Number 0925-0001) (adhere to the instructions on the Errata Instruction Sheet for PHS 398). Forms are available in the application kit and at the following Internet address: www.cdc.gov/od/pgo/forminfo.htm

On or before June 15, 2001, submit the application to the Grants Management Specialist identified in the “Where to Obtain Additional Information” section of this announcement.

Deadline: Applications shall be considered as meeting the deadline if they are either:

(a) Received on or before the deadline date; or

(b) Sent on or before the deadline date and received in time for submission to the independent review group. (Applicants must request a legibly dated U.S. Postal Service postmark or obtain a legibly dated receipt from a commercial carrier or the U.S. Postal Service. Private metered postmarks shall not be acceptable as proof of timely mailing.)

G. Evaluation Criteria

Each application will be evaluated individually against the following criteria by an external peer review panel: (1) PRC Theme; (2) Center Plan; (3) Management and Staffing Plan; (4) Research Project; and (5) Evaluation. The Budget and Human Subjects sections are reviewed but not scored. The review panel will score each of the 5 criteria listed above on a 1-5 scale (with increments of 0.1) with 1=highest (best) and 5-lowest. The review panel will also score the application overall, based on the same scale. the reviewers' scores are then averaged and multiplied by 100 to attain a priority score for the application. The review panel will compile a summary and recommendations including the strengths and weaknesses of the application.

1. PRC Theme

(a) To what extent does the research theme meet health priorities and emerging public health needs of identified communities or special groups?

(b) To what extent has there been community involvement in the selection of the theme?

2. Center Plan

(a) To what extent does the plan have objectives that are clear, specific, measurable, attainable, realistic and time-phased?

(b) Does the plan make effective use of both PRC and community resources to advance the PRC theme?

(c) Is the plan consistent with the PRC purpose, and does it include a two-year time-line?

(d) Does the plan describe the composition of a Community Advisory Committee and rationale for its membership, relevance and feasibility of committee objectives and its role within the PRC?

(e) Is a plan included to establish collaborative activities with appropriate organizations, individuals, State, and local health departments?

(f) Is a plan included to conduct community-based training in research methods to foster community involvement and build community capacity for participatory research or does the plan contain a description of the Center's capacity for providing professional, multidisciplinary prevention research training in the area of health promotion and disease prevention?

(g) Does the plan address dissemination of findings to the community?

3. Management and Staffing Plan

(a) To what extent does the applicant demonstrate the ability, capacity, organizational structure, and staffing to carry out the overall theme, objectives, and specific project plans?

(b) Does the applicant demonstrate well-defined and active leadership roles for the center?

4. Research Project

(a) Does the applicant demonstrate an understanding of the community contexts, current scientific literature, as well as other information sources relevant to the proposed project?

(b) Are the conceptual framework, design, methods, analyses, and translation plan adequately developed, well-integrated, scientifically strong, and appropriate to the aims of the project?

(c) Does the proposed approach allow for flexibility or change in research methods or focus as necessary?

(d) Does the applicant acknowledge potential problem areas and consider alternative tactics?

(e) Is there an appropriate work plan included?

(f) Does the project include plans to measure progress toward achieving the stated objectives?

(g) Does the applicant propose research translation approaches or methods from the project?

(h) The degree to which the applicant has met the CDC policy requirements regarding the inclusion of women, ethnic and racial groups in the proposed research. This includes:

(1) The proposed plan for the inclusion of both sexes and racial and ethnic minority populations for appropriate representation.

(2) The proposed justification when representation is limited or absent.

(3) A statement as to whether the design of the study is adequate to measure differences when warranted.

(4) A statement as to whether the plans for recruitment and outreach for study participants include the process of establishing partnerships with community(ies) and recognition of mutual benefits.

5. Evaluation

(a) To what extent are the plan and methodology proposed to evaluate the PRC program and activities with regard to program progress and process; fulfillment of outcome objectives; impact, and community involvement; the PRCs community-based objectives; and any other indicators, such as cost-benefit analyses feasible and of scientific merit?

(b) Are there adequate plans for periodic evaluation of the technical and scientific merit of research projects and publications?

6. Budget (Reviewed But Not Scored)

The extent to which the budget and justification are consistent with the program objectives and purpose.

7. Human Subjects (Reviewed But Not Scored)

Does the application adequately address the requirements of Title 45 CFR Part 46 for the protection of human subjects?

H. Other Requirements

Technical Reporting Requirements

Provide CDC with original plus two copies of

1. annual reports;

2. financial status report, no more than 90 days after the end of the budget period; and

3. final financial and performance reports, no more than 90 days after the end of the project period.

Send all reports to the Grants Management Specialist identified in the “Where to Obtain Additional Information” section of this announcement.

The following additional requirements are applicable to this program. For a complete description of each, see Attachment 1 of the announcement.

AR-1 Human Subjects Requirements

AR-2 Requirements for Inclusion of Women and Racial and Ethnic Minorities in Research

AR-7 Executive Order 12372 Review

AR-8 Public Health System Reporting Requirements

AR-9 Paperwork Reduction Act Requirements

AR-10 Smoke-Free Workplace Requirements

AR-11 Healthy People 2010

AR-12 Lobbying Restrictions

AR-22 Research Integrity

I. Authority and Catalog of Federal Domestic Assistance Number

This program is authorized under sections 301(a), 317(k)(2) and 1706 [42 U.S.C. 241(a), 247b(k)(2) and 300u-5] of the Public Health Service Act, as amended. The Catalog of Federal Domestic Assistance number is 983.135.

J. Where to Obtain Additional Information

This and other CDC announcements can be found on the CDC home page Internet address—http://www.cdc.gov Click on “Funding” then “Grants and Cooperative Agreements.”

To receive aditional written information and to request on application kit, call 1-888-GRANTS4 (1-888-472-6874). You will be asked to leave your name and address and will be instructed to identify the Program Announcement number of interest.

Should you have questions after reviewing the contents of all the documents, business management technical assistance may be obtained from: Robert Hancock, Grants Management Specialist, Grants Management Branch, Procurement and Grants Office, Centers for Disease Control and Prevention, Room 3000, 2920 Brandywine Road, Atlanta, GA 30341-4146, Telephone number (770) 488-2746, E-mail address: rnh2@cdc.gov.

For program technical assistance, contact: David Elswick, Deputy Program Director, Prevention Research Centers Office, National Center for Chronic Disease Prevention and Health Promotion, Centers for Disease Control and Prevention, 4770 Buford Highway, Northeast, Atlanta, GA 30341-3724, Telephone number: 404-488-5395, E-mail address: dcel@cdc.gov.

Dated: April 23, 2001.
John L. Williams,
Procurement and Grants Office, Centers for Disease Control and Prevention (CDC).

[FR Doc. 01-10481 Filed 4-27-01; 8:45 am]

BILLING CODE 4163-18-M